DEPARTMENT OF COMMERCE

National Institute of Standards and Technology

Public Forum for U.S. Standards Strategy

AGENCY: National Institute of Standards and Technology, Department of Commerce.

ACTION: Meeting/workshop notice.

SUMMARY: The National Institute of Standards and Technology (NIST) will host, in conjunction with the American National Standards Institute, a public workshop from 9 a.m. to noon on April 15, 2005, at the Department of Commerce, Herbert C. Hoover Building, 14th Street and Constitution Ave., NW., Washington, DC. The purpose of the workshop is to raise awareness of the effort currently underway to complete the United States Standards Strategy; to engage stakeholders in a dialogue of its principles, strategic initiatives and tactics; and to invite public comment. The results of the workshop discussions will be included in a compilation of public comments and considered in a final draft of the U.S. Standards Strategy. There is no charge for the workshop, but pre-registration is required. To register electronically, please send an e-mail message containing the attendee's name, title, organization, telephone, telefax and e-mail address to nancy.evans@nist.gov or call 301-975-4000.

DATES: The workshop will begin on April 15, 2005, at 9 a.m. and conclude at noon.

ADDRESSES: The workshop will be held at the Department of Commerce, Herbert C. Hoover Building, 14th Street and Constitution Avenue, NW., Washington, DC. Please note admittance instructions under SUMMARY paragraph.

FOR FURTHER INFORMATION CONTACT: Mary Saunders, Chief, Standards Services Division, 100 Bureau Drive/MS 2100, Gaithersburg, MD 20899-2100, phone: (301) 975-4000 or e-mail ssd@nist.gov. For information on the draft U.S. Standards Strategy, refer to the Web site at http://www.ansi.org/usss.

SUPPLEMENTARY INFORMATION: The United States Standards Strategy is a revision of the National Standards Strategy for the United States (NSS) (first edition—August 2000). The NSS was developed by a committee of private and public sector stakeholders in the U.S. standards system, under the sponsorship of the American National Standards Institute (ANSI). It was intended to serve as a strategic framework to help guide standards-related activities impacting trade, market-access, emerging national priorities, and more. Strategic and tactical initiatives contained within this framework were developed so that they could then be used by diverse interests to meet their respective national and individual organizational objectives. In mid-2004, ANSI convened a committee to review and revise the NSS. More than 100 representatives of industry; small, medium and large enterprise; standards developers and consortium; consumer groups; and federal and state government have participated in the review process. An initial draft of the second edition of the Strategy was issued for public review and comment in March 2005 (to access the draft text, refer to the Web site http://www.ansi.org/usss).

Dated: March 7, 2005.
Hratch G. Semerjian,
Acting Director.

[FR Doc. 05-4849 Filed 3-10-05; 8:45 am]

BILLING CODE 3510-13-P